DEPARTMENT OF COMMERCE

National Oceanic and Atmospheric Administration

[RTID 0648-XR064]

Marine Mammals; File No. 23467

AGENCY: National Marine Fisheries Service (NMFS), National Oceanic and Atmospheric Administration (NOAA), Commerce.

ACTION: Notice; receipt of application for permit amendment.

SUMMARY: Notice is hereby given that Sarah Conner, Wild Space Productions, St. Stephens House, Colston Avenue, Bristol, BS1 4ST, United Kingdom, has applied for an amendment to Permit No. 23467.

DATES: Written, telefaxed, or email comments must be received on or before March 9, 2020.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Erin Markin, (301) 427-8401.

SUPPLEMENTARY INFORMATION: The subject amendment to Permit No. 23467 is requested under the authority of the Marine Mammal Protection Act of 1972, as amended (16 U.S.C. 1361 et seq.), and the regulations governing the taking of marine mammals (50 CFR part 216).

Permit No. 23467, issued on December 19, 2019 (85 FR 1805, January 13, 2020), authorizes the permit holder to film pinnipeds in Monterey Bay National Marine Sanctuary to obtain footage for a wildlife documentary celebrating the world's greatest national parks and marine sanctuaries. The permit authorizes filming of Northern elephant seals (Mirounga angustirostris), California sea lions (Zalophus californianus), Steller sea lions (Eumetopias jubatus; Eastern Distinct Population Segment), and harbor seals (Phoca vitulina).

The permit holder is requesting the permit be amended to include authorization to film additional marine mammal species with new methods in the same location. Up to 5,000 bottlenose dolphins (Tursiops truncatus), 10 Baird's beaked whales (Berardius bairdii), 10 Cuvier's beaked whales (Ziphius cavirostris), 200 Dall's porpoise (Phocoenoides dalli), 1,050 gray whales (Eschrichtius robustus), 600 killer whales (Orcinus orca), 2,000 long-beaked common dolphin (Delphinus capensis), 3,000 northern right whale dolphin (Lissodelphis borealis), 2,000 Pacific white-sided dolphin (Lagenorhynchus obliquidens), 2,000 Risso's dolphin (Grampus griseus), 11,000 short-beaked common dolphin (Delphinus delphis), 5,500 California sea lions, 300 harbor seals, and 10 northern fur seal (Callorhinus ursinus). Marine mammals may be filmed from land, vessels, underwater divers or camera, helicopters, and unmanned aircraft systems. The permit would expire on February 28, 2021.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: February 3, 2020.
Julia Marie Harrison,
Chief, Permits and Conservation Division, Office of Protected Resources, National Marine Fisheries Service.

[FR Doc. 2020-02412 Filed 2-6-20; 8:45 am]

BILLING CODE 3510-22-P